DEPARTMENT OF HEALTH AND HUMAN SERVICES

Administration for Children and Families

RIN 0970-0427

Request for Public Comments on Head Start Program Information Report

AGENCY: Office of Head Start (OHS), Administration for Children and Families (ACF), Department of Health and Human Services (HHS).

ACTION: Request for public comments on Head Start Program Information Report.

SUMMARY: The Office of Head Start invites public comment on several major changes to the Head Start Program Information Report (PIR) to better align with the comprehensive revision of the Head Start Program Performance Standards (HSPPS), reduce reporting burden, and improve the data collection. Major changes include proposals to remove, add, and significantly update PIR questions. To view proposed changes to the PIR to go into effect for the 2019-20 PIR, please visit https://eclkc.ohs.acf.hhs.gov/sites/default/files/pdf/summary-of-proposed-changes-to-the-pir-for-public-comment.pdf.

DATES: Submit comments by April 6, 2018.

FOR FURTHER INFORMATION CONTACT: Fran Majestic, Division Director of Program Operations Division, HeadStart@eclkc.info, 1-866-763-648. Deaf and hearing-impaired individuals may call the Federal Dual Party Relay Service at 1-800-877-8339 between 8 a.m. and 7 p.m. Eastern Standard Time.

Dated: February 28, 2018.
Ann Linehan,
Acting Director, Office of Head Start.

[FR Doc. 2018-04683 Filed 3-8-18; 8:45 am]

BILLING CODE 4184-40-P